DEPARTMENT OF ENERGY

Federal Energy Regulatory Commission

[Project/Docket No. CP22-486-000]

Texas Eastern Transmission, LP; Notice of Waiver Period for Water Quality Certification Application

On October 24, 2022, Texas Eastern Transmission, LP submitted to the Federal Energy Regulatory Commission (Commission) a copy of its application for a Clean Water Act section 401(a)(1) water quality certification filed with Pennsylvania Department of Environmental Protection, in conjunction with the above captioned project. Pursuant to 40 CFR 121.6 and section 157.22(b) of the Commission's regulations,¹ we hereby notify the Pennsylvania Department of Environmental Protection of the following:

¹ 18 CFR 157.22.

Date of Receipt of the Certification Request: August 5, 2022.

Reasonable Period of Time to Act on the Certification Request: August 5, 2023.

If the Pennsylvania Department of Environmental Protection fails or refuses to act on the water quality certification request on or before the above date, then the agency certifying authority is deemed waived pursuant to section 401(a)(1) of the Clean Water Act, 33 U.S.C. 1341(a)(1).

Dated: February 10, 2023.
Debbie-Anne A. Reese,
Deputy Secretary.

[FR Doc. 2023-03307 Filed 2-15-23; 8:45 am]

BILLING CODE 6717-01-P